DEPARTMENT OF COMMERCE

International Trade Administration

[C-570-827]

Certain Cased Pencils from the People's Republic of China: Extension of Time Limit for Preliminary Results of the Antidumping Duty Administrative Review

AGENCY: Import Administration, International Trade Administration, Department of Commerce.

EFFECTIVE DATE: August 25, 2008.

FOR FURTHER INFORMATION CONTACT: Alexander Montoro at (202) 482-0238 or Shane Subler at (202) 482-0189; AD/CVD Operations, Office 1, Import Administration, International Trade Administration, U.S. Department of Commerce, 14th Street and Constitution Avenue, NW, Washington, DC 20230.

SUPPLEMENTARY INFORMATION:

Background

On January 28, 2008, the Department published a notice of initiation of administrative review of the antidumping duty order on certain cased pencils from the People's Republic of China, covering the period December 1, 2006 through November 30, 2007. See Initiation of Antidumping and Countervailing Duty Administrative Reviews and Request for Revocation in Part, 73 FR 4829 (January 28, 2008). The current deadline for the preliminary results of this administrative review is September 2, 2008.¹

¹ We note that Monday, September 1, 2008, is 245 days after December 31, 2007, the last day of the anniversary month of the antidumping order for this proceeding. September 1, 2008, is Labor Day. When a deadline falls on a weekend or federal holiday, the Department's practice is to use the next business day as the appropriate deadline. See Notice of Clarification: Application of “Next Business Day” Rule for Administrative Determination Deadlines Pursuant to the Tariff Act of 1930, As Amended, 70 FR 24533 (May 10, 2005).

Statutory Time Limits

Section 751(a)(3)(A) of the Tariff Act of 1930, as amended (“the Act”), requires the Department of Commerce (“the Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limit for Preliminary Results

The Department requires additional time to review and analyze the sales and cost responses in this administrative review. Moreover, the Department requires additional time to analyze complex issues related to surrogate value selections. Because the Department requires additional time to analyze the information, issue supplemental questionnaires, and possibly verify the information, it is not practicable to complete this review within the originally anticipated time limit (i.e., by September 2, 2008). Therefore, the Department is extending the time limit for completion of the preliminary results by 112 days to not later than December 22, 2008, in accordance with section 751(a)(3)(A) of the Act.

We are issuing and publishing this notice in accordance with sections 751(a)(1) and 777(i)(1) of the Act.

Dated: August 18, 2008.
Edward C. Yang,
Acting Deputy Assistant Secretary for Import Administration.

[FR Doc. E8-19663 Filed 8-22-08; 8:45 am]

BILLING CODE 3510-DS-S